DEPARTMENT OF HOMELAND SECURITY

Coast Guard

33 CFR Part 100

[USCG-2007-27373](Formerly [USCG-2207-2737])

RIN 1625-AA08

Regattas and Marine Parades; Great Lakes Annual Marine Events

AGENCY: Coast Guard, DHS.

ACTION: Notice of proposed rulemaking; correction.

SUMMARY: This document contains a correction to the docket number of the Notice of Proposed Rulemaking entitled “Regattas and Marine Parades; Great Lakes Annual Marine Events” published on April 6, 2007, in the Federal Register (72 FR 17062).

DATES: The NPRM is corrected as of May 16, 2007.

ADDRESSES: You may submit comments identified by Coast Guard docket number USCG-2007-27373 to the Docket Management Facility at the U.S. Department of Transportation. Two different locations are listed under the mail and delivery options below because the Document Management Facility is moving May 30, 2007. To avoid duplication, please use only one of the following methods:

(1) Web site: http://dms.dot.gov.

(2) Mail:

• Address mail to be delivered before May 30, 2007, as follows: Docket Management Facility, U.S. Department of Transportation, 400 Seventh Street SW., Washington, DC 20590-0001.

• Address mail to be delivered on or after May 30, 2007, as follows: Docket Management Facility, U.S. Department of Transportation, 1200 New Jersey Avenue SE., West Building Ground Floor, Room W12-140, Washington, DC 20590.

(3) Fax: 202-493-2251.

(4) Delivery:

• Before May 30, 2007, deliver comments to: Room PL-401 on the Plaza level of the Nassif Building, 400 Seventh Street, SW., Washington, DC 20590.

• On or after May 30, 2007, deliver comments to: Room W12-140 on the Ground Floor of the West Building, 1200 New Jersey Avenue, SE., Washington, DC 20590.

At either location, deliveries may be made between 9 a.m. and 5 p.m., Monday through Friday, except Federal holidays. The telephone number is 202-366-9329.

(5) Federal eRulemaking Portal: http://www.regulations.gov.

FOR FURTHER INFORMATION CONTACT: Amy Bunk, Attorney-Advisor, Coast Guard, 2100 Second Street, SW., Washington, DC 20593 at 202-372-3864.

SUPPLEMENTARY INFORMATION: On April 6, 2007, the Coast Guard published a Notice of Proposed Rulemaking entitled “Regattas and Marine Parades; Great Lakes Annual Marine Events” Federal Register (72 FR 17062). In that document the last digit of the docket number USCG-2007-2737 was inadvertently shortened. The correct docket number for this NRPM is USCG-2007-27373.

In rule FR Doc. E7-6425 published on April 6, 2007, (72 FR 17062) make the following corrections:

1. On page 17062, in the first column, in the heading change the docket number to read as follows: “[USCG-2007-27373]”

Dated: May 9, 2007.
Stefan G. Venckus,
Chief, Office of Regulations and Administrative Law, United States Coast Guard.

[FR Doc. E7-9349 Filed 5-15-07; 8:45 am]

BILLING CODE 4910-15-P